Title 3—

The President

Proclamation 10496 of November 14, 2022

America Recycles Day, 2022

By the President of the United States of America

A Proclamation

On America Recycles Day, we promote the benefits of recycling for our health, environment, and economy and we reenergize the efforts all of us can take to meet the obligations we have as a Nation to future generations. By manufacturing and packaging more recyclable products, producing less waste, and reusing precious resources, we can cut greenhouse gas emissions, create new good-paying jobs, and do our part to help address the climate crisis.

While we know its benefits, recycling is at a crossroads today in many parts of this country. Too many Americans are uncertain about what materials can or should be recycled. Municipalities have trouble finding markets for their recycled waste. Also, as we extract and process more natural resources when we could otherwise reuse materials, we emit dangerous greenhouse gases into the atmosphere. People of color and low-income Americans, who are more likely to live near landfills and other waste processing plants, often suffer disproportionately from the damaging effects of pollution, which impact their health, their livelihoods, and the quality of their lives.

In response, my Administration has released a National Recycling Strategy to guide our efforts to educate Americans about recycling best-practices. This strategy discusses ways to improve collection methods of recyclable products, how to more effectively identify markets for these materials, and how to fund the next generation of recycling technologies. It encourages investments in technologies that recycle important resources. It also strengthens the steps my Administration has taken to address climate change and achieve net-zero greenhouse gas emissions by no later than 2050, including by signing the Inflation Reduction Act into law—a historic investment in clean energy manufacturing and climate action.

For the health of our planet, we must build an economy that prioritizes reducing, reusing, and recycling materials. The Federal Government can—and should—lead by example, but each of us has a role to play. Today, I call on all Americans to take action in their own lives: Dispose of waste in the proper bins whenever possible, reuse containers, compost food, and use products made with recycled materials. I also call on all manufacturers and corporations to do their part to improve the reusability and recyclability of the products they sell and to reduce the amount of non-recyclable packaging they use. Together, as we activate our collective will and actualize our shared responsibility, we can create a cleaner and greener country that secures our future for generations to come.

NOW, THEREFORE, I, JOSEPH R. BIDEN JR., President of the United States of America, by virtue of the authority vested in me by the Constitution and the laws of the United States, do hereby proclaim November 15, 2022, as America Recycles Day. I call upon the people of the United States of America to observe this day with appropriate programs and activities, and I encourage all Americans to continue their reducing, reusing, and recycling efforts throughout the year.

IN WITNESS WHEREOF, I have hereunto set my hand this fourteenth day of November, in the year of our Lord two thousand twenty-two, and of the Independence of the United States of America the two hundred and forty-seventh.

[FR Doc. 2022-25195

Filed 11-16-22; 8:45 am]

Billing code 3395-F3-P